DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: January 8, 2009, 3 p.m.-4:45 p.m.; January 9, 2009, 9 a.m.-4:45 p.m.; and January 10, 2009, 8:45 a.m.-1:30 p.m.

Place: Hilton Washington DC/Rockville Executive Meeting Center, 1750 Rockville Pike, Rockville, MD 20852, Phone: 301-468-1100.

Status: The meeting will be open to the public.

Agenda: The Council will be convening in Rockville, Maryland, to hear updates from the Bureau of Clinician Recruitment and Service (BCRS), discuss recruitment strategies for the National Health Service Corps, and address current workforce issues. The agenda will also cover priorities to be set for the 2009 calendar year for the Council.

For Further Information Contact: Tira Patterson, BCRS, Health Resources and Services Administration, Parklawn Building, Room 8A-55, 5600 Fishers Lane, Rockville, Maryland 20857; e-mail: TPatterson@hrsa.gov; telephone: 301-594-4140.

Dated: December 15, 2008.
Alexandra Huttinger,
Director, Division of Policy Review and Coordination.

[FR Doc. E8-30298 Filed 12-19-08; 8:45 am]

BILLING CODE 4165-15-P